DEPARTMENT OF STATE

[Delegation of Authority No. 350]

Delegation by the Secretary of State to the Assistant Secretary for Consular Affairs of the Authority To Disclose Visa Records In Certain Situations

By virtue of the authority vested in me as Secretary of State, including Section 1 of the State Department Basic Authorities Act, as amended (22 U.S.C. 2651a), and the Immigration and Nationality Act (INA), I hereby delegate to the Assistant Secretary for Consular Affairs, to the extent authorized by law, the authority under sections 222(f)(1) and (2) of the INA, codified in 8 U.S.C. 1202(f)(1) and (2), to exercise his or her discretion:

(1) To disclose certified copies of visa records to a court that certifies the need for such documents; and

(2) to provide to a foreign government, as a matter of discretion and on the basis of reciprocity, information in the Department's computerized visa lookout database and, when necessary and appropriate, other related records pertaining to the issuance and refusal of visas or permits to enter the United States under conditions specified in the statute.

Any act, executive order, regulation, or procedure subject to, or affected by, this delegation shall be deemed to be such act, executive order, regulation, or procedure as amended from time to time. This delegation of authority may be re-delegated.

Notwithstanding this delegation of authority, the Secretary, the Deputy Secretary, the Deputy Secretary for Management and Resources, and the Under Secretary for Management may at any time exercise any authority or function delegated by this delegation of authority.

This delegation of authority shall be published in the Federal Register.

Dated: March 11, 2013.
John F. Kerry,
Secretary of State.

[FR Doc. 2013-08226 Filed 4-8-13; 8:45 am]

BILLING CODE 4710-06-P